DEPARTMENT OF THE INTERIOR

Bureau of Land Management

[A2407-014-004-065516; #O2509-014-004-125222]

Realty Action: Modified Competitive Sale of 22 Parcels of Public Land in Clark County, Nevada; Termination of Recreation and Public Purposes Act Classification

AGENCY: Bureau of Land Management, Interior.

ACTION: Notice of realty action.

SUMMARY: The Bureau of Land Management (BLM) proposes to offer 22 parcels of public land totaling 232.89 acres in the Las Vegas Valley (Valley) by modified competitive sale at no less than each parcel's fair market value (FMV) pursuant to the Southern Nevada Public Land Management Act of 1998 (SNPLMA), as amended. The sale would be processed in conformance with applicable provisions of the Federal Land Policy and Management Act of 1976 (FLPMA) and BLM regulations. An online sale is the selected modified competitive bidding procedure that would allow for maximum participation. Additionally, the BLM proposes to remove the classification of a closed 10-acre recreation and public purposes (R&PP) lease regarding parcel NVNV106380155 so that it may be included in this sale.

DATES: The BLM will accept written comments regarding the proposed sale and R&PP lease termination until April 10, 2026. The BLM will publish this notice of realty action once a week for 3 consecutive weeks in the Las Vegas Review-Journal newspaper. The BLM intends to open the sale for bidding on April 28, 2026.

ADDRESSES:

Comments: Mail written comments on the proposed sale and R&PP lease termination to the BLM Las Vegas Field Office, Assistant Field Manager, Division of Lands, 4701 North Torrey Pines Drive, Las Vegas, NV 89130.

Availability of lease sale information: Prior to the sale, a sales matrix will be published on the following website: https://www.efficientmarkets.com. The sale matrix provides information specific to each proposed sale parcel such as legal description, physical location, encumbrances, acreage, and FMV. The FMV for each parcel will be available in the sales matrix no later than 30 days prior to the sale.

Bidding site: Bids must be submitted on Efficient Markets website at: https://www.efficientmarkets.com.

Additional information: For general information on previous BLM public land sales, go to https://www.blm.gov/snplma then click the land sales link. Information concerning the sale parcels, including encumbrances of record, appraisals, reservations, procedures and conditions, Comprehensive Environmental Response, Compensation and Liability Act, 42 U.S.C. 9620(h) (CERCLA) documents, and other environmental documents that may appear in the BLM public files for the sale parcels are available for review by appointment only during business hours from 8:00 a.m. to 4:00 p.m. PT Monday through Friday, at the BLM Las Vegas Field Office (LVFO), except during Federal holidays.

FOR FURTHER INFORMATION CONTACT: Stephen Gallimore, BLM Supervisory Realty Specialist, by email: BLM_NV_LVFO_LandTenureTeam@blm.gov, or by telephone: (702) 515-5017.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: It is the buyer's responsibility to be aware of all applicable Federal, State, and local government laws, regulations, and policies that may affect the subject lands, including any required dedication of lands for public uses. It is the buyer's responsibility to be aware of existing or prospective uses of nearby properties. When conveyed out of Federal ownership, the lands would be subject to any applicable laws, regulations, and policies of the applicable local government for proposed future uses. It is the responsibility of the purchaser to be aware through due diligence of those laws, regulations, and policies, and to seek any required local approvals for future uses. Buyers should make themselves aware of any Federal, state, or local law or regulation that may impact the future use of the property. Any land lacking access from a public road or highway would be conveyed as such and acquiring future access would be the responsibility of the buyer.

Out of the 22 parcels of public lands that the BLM proposes to offer, nine are located within Clark County jurisdiction, seven within the City of Las Vegas jurisdiction, and six within the City of Henderson jurisdiction. More specifically, of the 22 parcels, six are located in the far northwestern part of the Valley near Kyle Canyon Road; three are located in the northwest part of the Valley inside the Interstate 215/Clark County 215, also known as the Bruce Woodbury Beltway; seven are located in the south part of the Valley west of Interstate 15 near Blue Diamond Road and Jones Boulevard; and six are located in the Henderson area just south of the Saint Rose Parkway along Volunteer Boulevard.

The subject public lands are legally described as:

Mount Diablo Meridian, Nevada

NVNV106276599, 6.25 acres

T. 22 S., R. 60 E.,

Sec. 13, NW¼SW¼SW¼SW¼, SW¼NW¼SW¼SW¼, and W½SE¼NW¼SW¼SW¼.

NVNV105860629, 6.25 acres

T. 22 S., R. 60 E.,

Sec. 13, SE¼SW¼NW¼SW¼, W½SW¼SE¼NW¼SW¼, and NW¼SE¼NW¼SW¼.

NVNV105860653, 7.50 acres

T. 22 S., R. 60 E.,

Sec. 14, W½SE¼SE¼SE¼, and NE¼SE¼SE¼SE¼.

NVNV106334794, 20.00 acres

T. 19 S., R. 59 E.,

Sec. 25, W½SW¼NE¼.

NVNV106335194, 20.00 acres

T. 19 S., R. 59 E.,

Sec. 25, E½SE¼SE¼SW¼, SW¼SW¼SE¼, and W½SE¼SW¼SE¼.

NVNV106334779, 45.00 acres

T. 22 S., R. 60 E.,

Sec. 23, S½SW¼NE¼NE¼, SW¼SE¼NE¼NE¼, S½SW¼SW¼NW¼NE¼, S½SE¼SW¼NW¼NE¼, S½SW¼SE¼NW¼NE¼, S½SE¼SE¼NW¼NE¼, E½SW¼NE¼, S½SW¼SW¼NE¼, N½NW¼SE¼NE¼, and SW¼NW¼SE¼NE¼.

NVNV106277017, 2.50 acres

T. 22 S., R. 60 E.,

Sec. 23, NW¼NE¼NE¼NE¼.

NVNV106380155, 10.00 acres

T. 23 S., R. 61 E.,

Sec. 9, SW¼NE¼NW¼.

NVNV106380171, 8.75 acres

T. 23 S., R. 61 E.,

Sec. 9, S½SW¼NW¼NE¼, NW¼NW¼SW¼NE¼, and W½SW¼NW¼SW¼NE¼.

NVNV106380174, 20.00 acres

T. 23 S., R. 61 E.,

Sec. 9, N½NE¼SE¼.

NVNV106380175, 9.375 acres

T. 23 S., R. 61 E.,

Sec. 10, SW¼SW¼NW¼NW¼SW¼, S½SE¼SW¼NW¼NW¼SW¼, N½SW¼NW¼SW¼, SW¼NE¼SE¼NW¼SW¼, S½SE¼NE¼SE¼NW¼SW¼, and NW¼SE¼NW¼SW¼.

NVNV106380176, 15.00 acres

T. 23 S., R. 61 E.,

Sec. 10, NE¼SE¼SE¼ and N½SE¼SE¼SE¼.

NVNV106381482, 5.39 acres

T. 19 S., R. 60 E.,

Sec. 31, lot 14.

NVNV106381484, 5.00 acres

T. 19 S., R. 59 E.,

Sec. 2, W½NE¼SW¼SE¼.

NVNV106381486, 5.00 acres

T. 19 S., R. 59 E.,

Sec. 2, E½NW¼SE¼SE¼.

NVNV106381487, 10.00 acres

T. 19 S., R. 59 E.,

Sec. 2, E½SE¼SW¼SE¼ and W½SW¼SE¼SE¼.

NVNV106334760, 5.00 acres

T. 19 S., R. 59 E.,

Sec. 1, E½NW¼SE¼SW¼.

NVNV106334775, 5.00 acres

T. 19 S., R. 59 E.,

Sec. 3, E½NW¼SW¼SW¼.

NVNV106334776, 6.875 acres

T. 19 S., R. 59 E.,

Sec. 10, E½SW¼NW¼NW¼, N½NE¼NW¼SW¼NW¼, and NW¼NW¼NE¼SW¼NW¼.

NVNV106334777, 7.50 acres

T. 22 S., R. 60 E.,

Sec. 13, S½NE¼NE¼NW¼ and NW¼SE¼NE¼NW¼.

NVNV106334778, 2.50 acres

T. 22 S., R. 60 E.,

Sec. 13, SW¼SE¼SE¼NE¼.

NVNV106334780, 10.00 acres

T. 23 S., R. 61 E.,

Sec. 10, S½NE¼NW¼SE¼ and S½NW¼NW¼SE¼.

The areas described aggregate 232.89 acres, according to the official plats of the surveys of the said lands on file with the BLM.

The Las Vegas Valley Disposal Boundary Environmental Impact Statement (Record of Decision issued on December 23, 2004), and the Las Vegas In-Valley Area Multi-Action Analysis Environmental Assessment (EA), DOI-BLM-NV-S010-2016-0054-EA (https://eplanning.blm.gov/eplanning-ui/project/60096/510), analyzed the sale parcels.

Parcel-specific determinations of NEPA adequacy, document number DOI-BLM-NV-S010-2025-0006-DNA, were prepared in connection with this notice of realty action.

Submit comments to the address in the ADDRESSES section. Before including your address, phone number, email address, or other personally identifiable information in your comment, you should be aware that your entire comment—including any personally identifiable information—may be made publicly available at any time. While you can ask us in your comment to withhold your personally identifiable information from public review, we cannot guarantee that we will be able to do so.

Any comments regarding the proposed sale will be reviewed by the BLM Nevada State Director or other authorized official of the Department of the Interior, who may sustain, vacate, or modify this realty action in response to such comments. In the absence of any comments, this realty action will become the final determination of the Department of the Interior.

The use of the modified competitive sale method is consistent with 43 CFR 2711.3-2. Public lands may be offered for sale by modified competitive bidding procedures when the authorized officer determines it is necessary based on public policies. Utilizing an online auction would support Presidential Memorandum, Delivering Emergency Price Relief for American Families and Defeating the Cost-of-Living Crisis (January 20, 2025) and encourage greater participation by qualified bidders.

Federal law requires that bidders must be:

(1) a citizen of the United States, 18 years of age or older;

(2) a corporation subject to the laws of any state or of the United States;

(3) a state, State instrumentality, or political subdivision authorized to hold property; or

(4) an entity legally capable of conveying and holding lands or interests therein under the laws of the State of Nevada.

The successful bidder must submit proof of citizenship or articles of incorporation within 30 days from receipt of acceptance of bid letter. Evidence of United States citizenship is a birth certificate, passport, or naturalization papers. Citizenship documents or Articles of Incorporation (as applicable) must be provided to the BLM LVFO for each sale.

To participate in the BLM bidding process, you must register and obtain a bidder number. Registration for online bidding will be available prior to the sale date at Efficient Markets' website https://www.efficientmarkets.com. In the listings section of the website, click on the “Register” button on the “BLM Nevada SNPLMA Land Sale” tile to register for the sale. A free Efficient Markets account is required to register. To review the listings, obtain maps, and get information on how to submit competitive online bids, click on the “View Listings” button on the “BLM Nevada SNPLMA Land Sale” tile in the listings section of the website. A submitted online internet bid is a binding offer to purchase.

To participate in this sale, prospective buyers must create an Efficient Markets account, complete the Efficient Markets Bidding Terms Agreement, request a bidding allowance, and register for the BLM Nevada 22-Parcel SNPLMA Land Sale. Efficient Markets may require approximately five business days to determine bidder's financial qualifications. Additional information on how to register at Efficient Markets may be found at https://www.efficientmarkets.com.

Assistance creating an Efficient Markets account and registering for the sale is available by telephoning the Efficient Markets' Government Resources department at 877-351-4488 and by using the following link to create a Buyer's Account: https://www.efficientmarkets.com and create a Basic Account. After the account is created, complete your profile by submitting bank account information and requesting a bid allowance. The following information will be required:

• Bank Name.

• Banker's Name.

• Telephone Number of Banker.

• Address of Bank.

• Requested Bid Allowance amount.

Efficient Markets will verify the Bank Name is a recognized financial institution and contact the banker to ask if the prospective buyer has the financial means to cover the requested Bid Allowance, which is the limit or ceiling for bids and is NOT recorded as a bid or offer per property at auction. Upon receiving an affirmative answer, the allowance will be granted.

Important notes regarding your Bid Allowance: For security reasons, a bidder must contact its banker and grant permission to speak to Efficient Markets about its Bid Allowance request. Efficient Markets will not request the account balance or ask any questions about assets or lines of credit. Efficient Markets will not request the bank account number, nor can it withdraw funds.

The auction website is open to the public. The internet-based land sale can be observed in real-time. However, you must register as a bidder on the website in advance to submit bids for a parcel. The auction website will be active and available for use approximately 10 days after the date of this notice and will remain available for viewing until the completion of the auction. The available parcels listed in this notice will be detailed on Efficient Markets website. Interested parties may visit the website at any time. Potential bidders may register for the online auction as soon as the auction website is active.

Potential bidders are encouraged to visit the website prior to the start of the open bidding period to become familiar with the site and review the bidding instructions available at https://www.efficientmarkets.com. Supporting documentation is available on the website to familiarize new users to the process and answer frequently asked questions.

Payments to the BLM will not be made through the auction website. At the conclusion of the final parcel's bidding period, the successful bidder for each parcel will be provided instructions by the online auction system via email on how to make the required payment to the BLM. In addition, you will be required to pay a commission fee to Efficient Markets of 1.5 percent of the highest qualifying bid for each parcel purchased by successful bidders. Efficient Markets will submit a separate invoice via email to each successful bidder for the total amount due to the BLM and a separate invoice for the amount due to Efficient Markets.

Parcels will begin online bidding at the established FMV. Each parcel will have its own unique open bidding period, with start and stop times clearly identified on the auction website. The open bidding period for each parcel will run for 24 hours from start to finish, and only bids placed during this 24-hour period will be accepted. Each parcel will close bidding sequentially so that each bidder will know if it is the highest winning bid before subsequent parcels close. The website will display each current high bid, and the high bid bidder's number.

The online system allows participants to submit maximum bids, which is the highest amount a bidder is willing to pay for each parcel, to enable a bidder to participate in the online auction without having to be logged into the website at the time the auction period closes. The auction website provides a full explanation of placing maximum bids, as well as an explanation of how it works to place bids on your behalf to maintain your high bidder status up to the chosen maximum bid amount. The BLM strongly encourages potential bidders to review the bidding tutorial in the Frequently Asked Questions area on the auction website in advance of the sale. Efficient Markets will declare the highest qualifying bid as the high bid. The successful bidder must submit a deposit of not less than 20 percent of the successful bid amount by 4:00 p.m. PT, immediately following the close of the sale in the form of a certified check, postal money order, electronic fund transfer, bank draft, or cashier's check made payable in U.S. dollars to the “Department of the Interior, Bureau of Land Management.”

The BLM will send the successful bidder(s) an acceptance of bid letter with detailed information for full payment. In accordance with 43 CFR 2711.3-1(d), the successful bidder will forfeit the bid deposit if it fails to pay the full purchase price within 180 days of the sale. The BLM will make no exceptions. The BLM cannot accept the remainder of the bid price at any time following the 180th day after the sale.

If a bidder is the apparent successful bidder with respect to multiple parcels and that bidder fails to submit the minimum 20 percent bid deposit resulting in default on any single parcel following the sale, the BLM may cancel the sale of all parcels to that bidder. If a successful bidder cannot consummate the transaction for any reason, the BLM may consider the second highest bidder to purchase the parcel. If there are no acceptable bids, a parcel may remain available for sale on a future date without further legal notice.

The BLM LVFO must receive the request for escrow instructions prior to 30 days before the prospective patentee's scheduled closing date. There are no exceptions.

All name changes and supporting documentation must be received at the BLM LVFO by 4:00 p.m. PT, 30 days from the date on the high-bidder letter. There are no exceptions. To submit a name change, the apparent successful bidder must submit the name change in writing on the Certificate of Eligibility form to the BLM LVFO.

The BLM must receive the remainder of the full bid price for the parcel no later than 4:00 p.m. PT, within 180 days following the day of the sale. The successful bidder must submit payment in the form of a certified check, postal money order, bank draft, cashier's check, or make available by electronic fund transfer payable in U.S. dollars to the “Department of the Interior—Bureau of Land Management” to the BLM LVFO. The BLM will not accept personal or company checks.

Arrangements for electronic fund transfer to the BLM for payment of the balance due must be made a minimum of two weeks prior to the payment date. The BLM will not sign any documents related to 1031 Exchange transactions. The bidder is responsible for timing for completion of such an exchange. The BLM cannot be a party to any 1031 Exchange.

In accordance with 43 CFR 2711.3-1(f), the BLM may accept or reject any or all offers to purchase or withdraw any parcel of land or interest therein from sale within 30 days, if the BLM authorized officer determines consummation of the sale would be inconsistent with any law, or for other reasons as may be provided by applicable law or regulations. No contractual or other rights against the United States may accrue until the BLM officially accepts the offer to purchase and the full bid price is paid.

According to the SNPLMA, as amended, Public Law 105-263 section 4(c), lands identified within the Las Vegas Valley Disposal Boundary are withdrawn from location and entry under the mining laws and from operation under the mineral leasing and geothermal leasing laws until such time as the Secretary of the Interior (Secretary) terminates the withdrawal or the lands are patented.

Upon publication of this notice in the Federal Register, and until completion of this sale, the BLM will no longer accept land use applications affecting the parcels identified for sale. The parcels may be subject to land use applications received prior to publication of this notice if processing the application would have no adverse effect on the marketability of title, or the FMV of the parcel.

Terms and Conditions: FLPMA section 209, 43 U.S.C. 1719(a), states that “all conveyances of title issued by the Secretary . . . shall reserve to the United States all minerals in the lands.” Accordingly, all minerals for the sale parcels will be reserved to the United States. The patents, when issued, will contain a mineral reservation to the United States for all minerals.

In response to requests to clarify this mineral reservation as it relates to mineral materials, such as sand and gravel, we refer interested parties to the regulations at 43 CFR 3601.71(b), which provides that the owner of the surface estate of lands with reserved Federal minerals may “use a minimal amount of mineral materials” for “personal use” within the boundaries of the surface estate without a sales contract or permit. The regulation provides that all other use, absent statutory or other express authority, requires a sales contract or permit. The BLM refers interested parties to the explanation of this regulatory language in the preamble to the final rule published in the Federal Register in 2001, available at https://www.federalregister.gov/d/01-29001, which states that minimal use “would not include large-scale use of mineral materials, even within the boundaries of the surface estate” (66 FR 58892). Further explanation is contained in the BLM Instruction Memorandum No. 2014-085 (April 23, 2014), available on the BLM's website at https://www.blm.gov/policy/im-2014-085.

The following numbered terms and conditions will appear on the conveyance documents for the sale parcels:

1. All mineral deposits in the lands so patented, and to it, or persons authorized by it, the right to prospect for, mine, and remove such deposits from the same under applicable law and regulations to be established by the Secretary are reserved to the United States, together with all necessary access and exit rights.

2. A right-of-way is reserved for ditches and canals constructed by authority of the United States under the Act of August 30, 1890 (43 U.S.C. 945).

3. The parcels are subject to valid existing rights.

4. The parcels are subject to reservations for roads, public utilities, and flood control purposes, both existing and proposed, in accordance with the local governing entities' transportation plans.

5. An appropriate indemnification clause protecting the United States from claims arising out of the patentee's use, occupancy, or occupations on the patented lands.

To the extent required by law, the parcel is subject to the requirements of section 120(h) of the CERCLA, as amended. Accordingly, notice is hereby given that the lands have been examined, and no evidence was found to indicate that any hazardous substances have been stored for one year or more, nor that any hazardous substances have been disposed of or released on the subject properties.

No warranty of any kind, express or implied, is given by the United States as to the title, whether or to what extent the land may be developed, its physical condition, future uses, or any other circumstance or condition. The conveyance of a parcel will not be on a contingency basis.

(Authority: 43 CFR 2711.3-2.)

Bruce L. Sillitoe,
Field Manager, Las Vegas Field Office.

[FR Doc. 2026-03516 Filed 2-20-26; 8:45 am]

BILLING CODE 4331-21-P